FEDERAL COMMUNICATIONS COMMISSION

47 CFR Part 73

[MB Docket No. 22-405; Report No. 3222; FR ID 271711]

Petition for Reconsideration of Action in Rulemaking Proceeding

AGENCY: Federal Communications Commission.

ACTION: Petition for reconsideration.

SUMMARY: Petition for Reconsideration (Petition) has been filed in the Commission's proceeding by Robert McAllan, CEO, and Rich Morena, COO/CFO, on behalf of Press Communications, LLC.

DATES: Oppositions to the Petition must be filed on or before February 6, 2025. Replies to oppositions to the Petition must be filed on or before February 18, 2025.

ADDRESSES: Federal Communications Commission, 45 L Street NE, Washington, DC 20554.

FOR FURTHER INFORMATION CONTACT: Thomas Nessinger, Media Bureau, Audio Division, (202) 418-2700, Thomas.Nessinger@fcc.gov; or James Bradshaw, Media Bureau, Audio Division, (202) 418-2700, James.Bradshaw@fcc.gov.

SUPPLEMENTARY INFORMATION: This is a summary of the Commission's document, Report No. 3222, released December 30, 2024. The full text of this document can be accessed online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject: Modifying Rules for FM Terrestrial Digital Audio Broadcasting Systems, MB Docket No. 22-405, First Report and Order, FCC 24-105, published at 89 FR 84096 on October 21, 2024.

Number of Petitions Filed: 1.

Federal Communications Commission.
Marlene Dortch,
Secretary.

[FR Doc. 2025-00493 Filed 1-21-25; 8:45 am]

BILLING CODE 6712-01-P